DEPARTMENT OF HEALTH AND HUMAN SERVICES

[Document Identifier: OS-0990-NEW; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Evaluation of Medicare Personal Health Records Choice Pilot—OMB No. 0990-NEW—Office of the Assistant Secretary for Planning and Evaluation.

Abstract: Since 2003, HHS has worked toward the goal of establishing electronic, longitudinal health records for Americans that can be accessed safely, across the internet, and anytime and anywhere by patients, doctors, and other health care providers. In addition to electronic health records (EHRs), where health information is created, stored and accessed mainly by health care organizations and practitioners, personal health records (PHRs), electronic, patient-centered applications and services, are gaining increasing recognition and momentum. Current PHR business models represent broad and varied uses, from disease management to health promotion, with sponsors consisting of commercial vendors, heath plans, employers, and health care providers. We know very little about why consumers, and specifically Medicare beneficiaries, elect to use PHRs and what functionality they want from a PHR. Understanding these needs will be critical if HHS and the Centers for Medicare & Medicaid Services (CMS) are to pursue PHRs as a tool to empower consumers to manage their health and have the capability to link to their provider's EHR.

In January 2009, CMS launched a new program in Arizona and Utah, the Medicare PHR Choice Pilot (PHRC). This pilot encourages Medicare fee-for-service (FFS) beneficiaries to take advantage of the newer, more robust Internet-based tools for tracking their health and health care services. This is the first pilot to offer a choice of PHRs to Medicare FFS beneficiaries, including PHRs with additional functionality and direct data linkages for the consumers. Pilot participants can choose among GoogleHealth™, NoMoreClipboard™, PassportMD™, and HealthTrio™, competitors in the open PHR market.

HHS' Office of the Assistant Secretary for Planning and Evaluation (ASPE) has contracted with Mathematica Policy Research to conduct an evaluation of this pilot program, including a PHR enrollee user satisfaction survey to assess barriers, facilitators, and satisfaction with the PHRs. A self-administered paper-and-pencil instrument will be the primary data collection mode for the PHRC user satisfaction survey, with telephone followup for mail nonrespondents. The one-time data collection field period is expected to be 12 weeks in Fall 2010.

Estimated Annualized Burden Table
Forms (if necessary) | Type of respondent | Number of respondents | Number of responses per respondent | Average burden hours per response | Total burden hours
Self-administered questionnaire | Medicare beneficiaries | 500 | 1 | 25/60 | 208
Total |  | 500 |  |  | 208

Seleda Perryman,
Office of the Secretary, Paperwork Reduction Act Reports Clearance Officer.

[FR Doc. 2010-11568 Filed 5-13-10; 8:45 am]

BILLING CODE 4150-05-P